CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed national evaluation of School Turnaround AmeriCorps. The primary purpose of the analysis is to assess the effects that AmeriCorps members who provide direct services in schools make on the success of school turnaround models and seek to understand the mechanisms by which this happens. Data will be collected from School Turnaround AmeriCorps grantees and schools as well as from a group of matched comparison schools. School Turnaround AmeriCorps grantees are required to participate in the evaluation as a condition of their funding.

Copies of the information collection request can be obtained by contacting the office listed in the Addresses section of this Notice.

DATES: Written comments must be submitted to the individual and office listed in the ADDRESSES section by August 26, 2014.

ADDRESSES: You may submit comments, identified by the title of the information collection activity, by any of the following methods:

(1) By mail sent to: Corporation for National and Community Service, Office of Research and Evaluation; Attention Diana Epstein, Senior Research Analyst, 10th floor; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Diana Epstein, 202-606-7564, or by email at depstein@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The national evaluation of School Turnaround AmeriCorps will use a quasi-experimental design that compares schools affected by School Turnaround AmeriCorps (i.e., the treatment group) to a matched comparison group of low performing schools without the School Turnaround AmeriCorps initiative (i.e., the comparison group). This research design will attempt to isolate the effects of AmeriCorps members' service.

This is a new information collection request. Information will be collected from AmeriCorps grantee staff, AmeriCorps members, school leaders, teachers, and parents using online surveys and semi-structured interviews and focus groups conducted in person and by phone.

Type of Review: New.

Agency: Corporation for National and Community Service.

Title: National Evaluation of School Turnaround AmeriCorps.

OMB Number: None.

Agency Number: None.

Affected Public: AmeriCorps grantee staff, AmeriCorps members, school leaders, teachers, and parents.

Total Respondents: 4236. Note that this is the sum total of survey respondents and parents, since the same individuals in the categories of grantee staff, AmeriCorps members, school leaders, and teachers will take the survey and participate in interview or focus groups.

Frequency: Some instruments will be administered twice per year, some only once per year. Data collection will occur for two years. See charts below for details on respondents and frequency of data collection.

Average Time per Response: Averages 30 minutes.

Estimated Total Burden Hours: 2300 hours per year; 4600 total over 2 years.

Survey | AmeriCorps | Comparison | Pre/post? | Total
Grantee staff | 13 | 0 | No | 13
AmeriCorps members | 440 | 0 | No | 440
Principals | 62 | 62 | Yes | 248
Teachers | 348 | 348 | Yes | 1392
| 863 | 410 |  | 2093

Total respondents: 4186.

Minutes—125580

Hours—2093

Interviews | AmeriCorps | Comparison | Pre/post? | Total
Grantee staff | 13 | 0 | Yes | 26
AmeriCorps members | 26 | 0 | No | 26
Principals | 26 | 26 | Yes | 104
Teachers | 26 | 26 | Yes | 104
Parents | 50 | 0 | No | 50

Total respondents: 310.

Minutes—9300

Hours—155

Focus group | AmeriCorps
Grantee staff | 13
AmeriCorps members | 39
Principals | 13
Teachers | 39

Total respondents: 104.

Minutes —3120

Hours—52

Total hours per year—2300

Total hours 2 years—4600

Total Burden Cost (capital/startup): None.

Total Burden Cost (operating/maintenance): None.

Comments submitted in response to this notice will be summarized and/or included in the request for Office of Management and Budget approval of the information collection request; they will also become a matter of public record.

Dated: June 20, 2014.
Stephen Plank,
Director, Office of Research and Evaluation.

[FR Doc. 2014-14999 Filed 6-26-14; 8:45 am]

BILLING CODE 6050-28-P